ENVIRONMENTAL PROTECTION AGENCY

40 CFR Part 82

[EPA-HQ-OAR-2003-0167; FRL-9270-2]

Protection of Stratospheric Ozone: Amendments to the Section 608 Leak Repair Requirements

AGENCY: Environmental Protection Agency (EPA).

ACTION: Proposed rule; reopening of public comment period.

SUMMARY: EPA issued a proposed rule in the December 15, 2010, Federal Register proposing changes to the leak repair regulations promulgated under Section 608 of the Clean Air Act Amendments of 1990. In response to stakeholder requests, this action reopens the public comment period through March 25, 2011.

DATES: Comments, identified by docket ID number EPA-HQ-OAR-2003-0167, must be received on or before March 25, 2011.

ADDRESSES: Submit your comments to docket EPA-HQ-OAR-2003-0167 by one of the following methods:

Federal eRulemaking Portal: http://www.regulations.gov. Follow the on-line instructions for submitting comments.

E-mail: a-and-r-Docket@epa.gov.

Mail: Environmental Protection Agency. EPA Docket Center (EPA/DC), Mailcode 6102T, Attention Docket ID No. EPA-HQ-OAR-2003-0167, 1200 Pennsylvania Avenue, NW., Washington, DC 20460.

Hand Delivery: Public Reading Room, Room 3334, EPA West Building, 1301 Constitution Avenue, NW., Washington, DC. Such deliveries are only accepted during the Docket's normal hours of operation, and special arrangements should be made for deliveries of boxed information.

Instructions: Direct your comments to Docket ID No. EPA-HQ-OAR-2003-0167. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters and any form of encryption, and be free of any defects or viruses.

Docket: All documents in the docket are listed in the http://www.regulations.gov index. Although listed in the index, some information is not publicly available: e.g., CBI or other information whose disclosure is restricted by statute. Certain other material, such as copyrighted material, will be publicly available only in hard copy.

Publicly available docket materials are available either electronically in http://www.regulations.gov or in hard copy at the Air Docket, EPA/DC, EPA West, Room 3334, 1301 Constitution Ave., NW., Washington, DC. This Docket Facility is open from 8:30 a.m. to 4:30 p.m., Monday through Friday, excluding legal holidays. The telephone number for the Public Reading Room is (202) 566-1744, and the telephone number for the Air Docket is (202) 566-1742.

FOR FURTHER INFORMATION CONTACT: Ross Brennan, Stratospheric Protection Division, Office of Atmospheric Programs; Environmental Protection Agency, Mail Code 6205J, 1200 Pennsylvania Ave., NW., Washington, DC 20460; telephone number (202) 343-9226; fax number (202) 343-2338; e-mail address brennan.ross@epa.gov. More information about EPA's leak repair requirements under Section 608, including a copy of the proposed rule, is available at http://epa.gov/ozone/title6/608/leak.html.

SUPPLEMENTARY INFORMATION:

Background

The statutory and regulatory background is described in detail in the December 15, 2010, notice of proposed rulemaking (75 FR 78558). EPA has proposed to lower the leak repair trigger rates for comfort cooling, commercial refrigeration, and industrial process refrigeration and air-conditioning equipment with refrigerant charges greater than 50 pounds of ozone-depleting substances. This action proposes to streamline existing required practices and associated reporting and recordkeeping requirements by establishing similar leak repair requirements for owners or operators of comfort cooling, commercial refrigeration, and industrial process refrigeration appliances. This action also proposes to reduce the use and emissions of class I and class II controlled substances (such as but not limited to CFC-11, CFC-12, HCFC-123, and HCFC-22) by requiring verification and documentation of all repairs, retrofit or retirement of appliances that cannot be sufficiently repaired; replacement of appliance components that have a history of failures; and recordkeeping of the determination of the full charge and the fate of recovered refrigerant.

This Action

EPA has received a request to provide additional time for public comment on the proposed rule. We believe that the request is reasonable and that a further 30 days for additional public comment is appropriate, since it will provide affected entities with necessary time to complete analysis and comment on the proposal. This action therefore reopens the comment period for 30 days. We intend to issue a final rule as expeditiously as possible following consideration of the comments and information we receive.

Dated: February 16, 2011.
Gina McCarthy,
Assistant Administrator, Office of Air and Radiation.

[FR Doc. 2011-3992 Filed 2-22-11; 8:45 am]

BILLING CODE 6560-50-P